DEPARTMENT OF DEFENSE

Office of the Secretary

Meeting Cancellation for Advisory Council on Dependents' Education

AGENCY: Department of Defense Education Activity, DoD.

ACTION: Notice.

SUMMARY: Pursuant to the Federal Advisory Committee Act, Appendix 2 of Title 5, United States Code, Public Law 92-463, a notice published on August 24, 2010, (FR Doc. 2010-15985), announcing the meetings of the Advisory Council on Dependents' Education (ACDE) scheduled to be held on November 12, 2010, from 8 a.m. to 11 a.m. and on November 19, 2010, from 9 a.m. to 2 p.m.; those meetings have been cancelled. A new meeting date will be announced.

FOR FURTHER INFORMATION CONTACT: Ms. Leesa Rompre at (703) 588-3128 or Leesa.Rompre@hq.dodea.edu.

Dated: October 26, 2010.
Morgan F. Park,
Alternate OSD Federal Register, Liaison Officer, Department of Defense.

[FR Doc. 2010-27711 Filed 11-2-10; 8:45 am]

BILLING CODE 5001-06-P